DEPARTMENT OF ENERGY

Federal Energy Regulatory Commission

Combined Notice of Filings #1

Take notice that the Commission received the following electric rate filings:

Docket Numbers: ER16-829-001.

Applicants: Southwest Power Pool, Inc.

Description: Tariff Amendment: Deficiency Response in ER16-829—Bylaws Section 8.4 Revisions to be effective 3/1/2016.

Filed Date: 4/28/16.

Accession Number: 20160428-5361.

Comments Due: 5 p.m. ET 5/19/16.

Docket Numbers: ER16-1498-001.

Applicants: South Carolina Electric & Gas Company.

Description: Tariff Amendment: Amendment of Pending Tariff Filing to be effective 5/15/2016.

Filed Date: 4/29/16.

Accession Number: 20160429-5069.

Comments Due: 5 p.m. ET 5/9/16.

Docket Numbers: ER16-1523-000.

Applicants: Southwest Power Pool, Inc.

Description: Section 205(d) Rate Filing: Revisions to Attachment L to Address Network Load Outside of the SPP Footprint to be effective 7/1/2016.

Filed Date: 4/28/16.

Accession Number: 20160428-5350.

Comments Due: 5 p.m. ET 5/19/16.

Docket Numbers: ER16-1524-000.

Applicants: PacifiCorp.

Description: Tariff Cancellation: Termination of BPA SIEA to be effective 6/30/2016.

Filed Date: 4/28/16.

Accession Number: 20160428-5353.

Comments Due: 5 p.m. ET 5/19/16.

Docket Numbers: ER16-1525-000.

Applicants: Pacific Gas and Electric Company.

Description: Section 205(d) Rate Filing: 7th Amendment to Extend the PGE-SVP Interconnection Agreement to be effective 6/30/2016.

Filed Date: 4/28/16.

Accession Number: 20160428-5362.

Comments Due: 5 p.m. ET 5/19/16.

Docket Numbers: ER16-1526-000.

Applicants: Southern California Edison Company.

Description: Section 205(d) Rate Filing: GIA and Distribution Service Agreement Commerce Refuse to Energy Authority to be effective 1/1/2017.

Filed Date: 4/29/16.

Accession Number: 20160429-5004.

Comments Due: 5 p.m. ET 5/20/16.

Docket Numbers: ER16-1527-000.

Applicants: Duke Energy Florida, LLC.

Description: Section 205(d) Rate Filing: DEF IA Annual Cost Factor Update (2016) to be effective 5/1/2016.

Filed Date: 4/29/16.

Accession Number: 20160429-5012.

Comments Due: 5 p.m. ET 5/20/16.

Docket Numbers: ER16-1528-000.

Applicants: Entergy Arkansas, Inc., Entergy Louisiana, LLC, Entergy Mississippi, Inc., Entergy Texas, Inc., Entergy New Orleans, Inc.

Description: Application of Entergy Services, Inc., on behalf of the Entergy Operating Companies for 2015 Transmission Formula Rate for Post-Retirement Benefits Other than Pensions.

Filed Date: 4/28/16.

Accession Number: 20160428-5406.

Comments Due: 5 p.m. ET 5/19/16.

Docket Numbers: ER16-1529-000.

Applicants: PJM Interconnection, L.L.C.

Description: Tariff Cancellation: Notice of Cancellation of WMPA SA No. 3285, Queue No. X1-082 due to Breach to be effective 4/28/2016.

Filed Date: 4/29/16.

Accession Number: 20160429-5151.

Comments Due: 5 p.m. ET 5/20/16.

Docket Numbers: ER16-1530-000.

Applicants: BIF III Holtwood LLC.

Description: Initial rate filing: Reactive Supply and Voltage Control Filing to be effective 6/1/2016.

Filed Date: 4/29/16.

Accession Number: 20160429-5164.

Comments Due: 5 p.m. ET 5/20/16.

Docket Numbers: ER16-1531-000.

Applicants: PJM Interconnection, L.L.C.

Description: Tariff Cancellation: Notice of Cancellation of WMPA SA No. 3457, Queue No. X3-082 due to Breach to be effective 4/28/2016.

Filed Date: 4/29/16.

Accession Number: 20160429-5242.

Comments Due: 5 p.m. ET 5/20/16.

Docket Numbers: ER16-1532-000.

Applicants: PJM Interconnection, L.L.C.

Description: Tariff Cancellation: Notice of Cancellation of WMPA SA No. 3458, Queue No. X3-083 due to Breach to be effective 4/28/2016.

Filed Date: 4/29/16.

Accession Number: 20160429-5246.

Comments Due: 5 p.m. ET 5/20/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 29, 2016.
Nathaniel J. Davis, Sr.,
Deputy Secretary.

[FR Doc. 2016-10864 Filed 5-9-16; 8:45 am]

BILLING CODE 6717-01-P